DEPARTMENT OF HEALTH AND HUMAN SERVICES

National Institutes of Health

Center for Scientific Review; Amended Notice of Meeting

Notice is hereby given of a change in the meeting of the Kidney Molecular Biology and Genitourinary Organ Development, October 04, 2013, 08:00 a.m. to October 04, 2013, 05:00 p.m., Hyatt Regency Bethesda, One Bethesda Metro Center, 7400 Wisconsin Avenue, Bethesda, MD 20814 which was published in the Federal Register on September 11, 2013, 78 FR 55087.

The meeting will be held on November 18, 2013 at the Crowne Plaza Hotel Washington National Airport, 1480 Crystal Drive, Arlington, VA 22202. The meeting time remains the same. The meeting is closed to the public.

Dated: October 29, 2013.
Michelle Trout,
Program Analyst, Office of Federal Advisory Committee Policy.

[FR Doc. 2013-26252 Filed 11-1-13; 8:45 am]

BILLING CODE 4140-01-P